DEPARTMENT OF TRANSPORTATION

Office of the Secretary

Reports, Forms and Recordkeeping Requirements; Agency Information Collection Activity Under OMB Review

AGENCY: Office of he Secretary, DOT.

ACTION: Notice.

SUMMARY: In accordance with the Paperwork Reduction Act of 1995 (44 U.S.C. Chapter 35, as amended), this notice announces the Department of Transportation's (DOT) intention to request the extension of a previously approved collection.

DATES: Comments on this notice must be received by October 5, 2001. Attention DOT/OST Desk Officer, Office of Information and Regulatory Affairs, Office of Management and Budget, Docket Library, Room 10102, 725 17th Street, NW., Washington, DC 20503.

FOR FURTHER INFORMATION CONTACT: Mr. Ladd Hakes, Grants Management Division (M-62), Office of the Senior Procurement Executive, Office of the Secretary, US Department of Transportation, 400 Seventh Street, SW., Washington, DC 20590, (202) 366-4284.

SUPPLEMENTARY INFORMATION:

Office of the Secretary

Title: Uniform Administrative Requirements for Grants and Cooperative Agreements to State and Local Governments.

Forms: SF 269, SF 270, SF 271, SF 272 and SF424.

OMB Number: 2105-0520.

Affected Public: All US and foreign direct air carriers must have accident liability insurance coverage to obtain or exercise authority to operate aircraft in interstate or foreign service.

Annual Estimated Burden: 125,650 hours.

Abstract: Information is required to meet the data requirements imposed by OMB Circular A-102 and the grant common rule, which the Department of Transportation codified at 49 CFR part 18. The information collected, retained and provided by the State and local government grantees is required to ensure grantee eligibility and their conformance with Federally mandated reporting requirements. OMB provides management and oversight of the circular. OMB also provides for a standard figure of seventy (70) annual burden hours per grantee for completion of required forms.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued in Washington DC on August 29, 2001.
Vanester Williams,
Clearance Officer, Department of Transportation.

[FR Doc. 01-22259 Filed 9-4-01; 8:45 am]

BILLING CODE 4910-62-P